FEDERAL EMERGENCY MANAGEMENT AGENCY

[FEMA-1332-DR]

Wisconsin; Amendment No. 6 to Notice of a Major Disaster Declaration

AGENCY: Federal Emergency Management Agency (FEMA).

ACTION: Notice.

SUMMARY: This notice amends the notice of a major disaster for the State of Wisconsin (FEMA-1332-DR), dated June 23, 2000, and related determinations.

EFFECTIVE DATE: July 18, 2000.

FOR FURTHER INFORMATION CONTACT: Madge Dale, Response and Recovery Directorate, Federal Emergency Management Agency, Washington, DC 20472, (202) 646-3772.

SUPPLEMENTARY INFORMATION: The notice of a major disaster for the State of Wisconsin is hereby amended to include the following areas among those areas determined to have been adversely affected by the catastrophe declared a major disaster by the President in his declaration of June 23, 2000: Racine County for Individual Assistance.

Richland and Sauk Counties for Individual Assistance (already designated for Public Assistance).

Ashland, Barron, Burnett, Forest, Iron, Oneida, Polk, Rusk, Sawyer, and Washburn Counties for Public Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Lacy E. Suiter,
Executive Associate Director, Response and Recovery Directorate.

[FR Doc. 00-19700 Filed 8-2-00; 8:45 am]

BILLING CODE 6718-02-P